DEPARTMENT OF AGRICULTURE

Forest Service

Information Collection: Appeal of Decisions Relating to Occupancy or Use of National Forest System Lands and Resources

AGENCY: Forest Service, Agriculture (USDA).

ACTION: Notice; request for comment.

SUMMARY: In accordance with the Paperwork Reduction Act of 1995, the Forest Service, U.S. Department of Agriculture, is seeking comments from all interested individuals and organizations on the renewal of a currently approved information collection, Appeal of Decisions Relating to Occupancy or Use of National Forest System Lands and Resources.

DATES: Comments must be received in writing on or before November 12, 2021 to be assured of consideration. Comments received after that date will be considered to the extent practicable.

ADDRESSES: Commenters are encouraged to submit comments by email, if possible. You may submit comments by any of the following methods:

• Email: appeals-chief@usda.gov.

• Mail: James Smalls, Assistant Director, Office of Ecosystem Management Coordination, USDA Forest Service, 201 14th Street SW, Mail Stop 1104, Washington, DC 20250.

• Hand Delivery/Courier: James Smalls, Assistant Director, Office of Ecosystem Management Coordination, USDA Forest Service, 1400 Independence Avenue SW, Washington, DC 20250.

• Facsimile: 703-605-5114.

Comments submitted in response to this notice may be made available to the public through relevant websites and upon request. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

The public may request an electronic copy of the draft supporting statement that further explains the 36 CFR 214 appeals process and/or any comments received be sent via return email. Requests should be emailed to Jody Sutton Spalding, Administrative Review Specialist, Ecosystem Management Coordination at jody.spalding@usda.gov.

FOR FURTHER INFORMATION CONTACT: James Smalls, Assistant Director, Ecosystem Management Coordination staff, 571-289-1605.

SUPPLEMENTARY INFORMATION: Title: Appeal of Decisions Relating to Occupancy or Use of National Forest System Lands and Resources.

OMB Number: 0596-0231.

Expiration Date of Approval: November 30, 2022.

Type of Request: Renewal without revision of a currently approved information collection.

Abstract: The process for appealing decisions related to occupancy or use of National Forest System lands and resources has been in use since June 5, 2013, and regulated through 36 CFR 214. The purpose of this inquiry is to determine if the required information collected from appellants is necessary or if there are better ways to gather the information needed to process an appeal. The regulation at 36 CFR 214 helps determine if an appealed decision should be affirmed or reversed in whole or in part. These appeal procedures are limited to holders, operators, and solicited applicants who, therefore, are the only individuals or entities subject to the information collection requirement.

Estimate of Annual Burden: 8 hours per application.

Type of Respondents: People Appealing Decisions Relating to Occupancy or Use of National Forest System Lands and Resources.

Estimated Annual Number of Respondents: 25.

Estimated Annual Number of Responses per Respondent: One.

Estimated Total Annual Burden on Respondents: 200 hours.

Public Comment: Public comment is invited on (1) whether this information collection is necessary for the stated purposes and the proper performance of the functions of the Agency, including whether the information will have practical or scientific utility; (2) the accuracy of the Agency's estimate of the burden of the information collection, including the validity of the methodology and assumptions used; (3) ways to enhance the quality, utility, and clarity of the information to be collected; and (4) ways to minimize the burden of the information collection on respondents, including the use of automated, electronic, mechanical, or other technological collection techniques or other forms of information technology.

All comments received in response to this notice, including names and addresses when provided, will be a matter of public record. Comments will be summarized and included in the request for Office of Management and Budget approval of the information collection.

Dated: September 8, 2021.
Tina J. Terrell,
Associate Deputy Chief, National Forest System.

[FR Doc. 2021-19680 Filed 9-10-21; 8:45 am]

BILLING CODE 3411-15-P